NUCLEAR REGULATORY COMMISSION

[Docket Nos. 50-325 and 50-324]

Carolina Power and Light Company, Brunswick Steam Electric Plant Units, 1 and 2; Notice of Availability of the Draft Supplement 25 to the Generic Environmental Impact Statement and Public Meeting for the License Renewal of Brunswick Steam Electric Plant, Units 1 and 2

Notice is hereby given that the U.S. Nuclear Regulatory Commission (NRC or the Commission) has published a draft plant-specific supplement to the Generic Environmental Impact Statement (GEIS), NUREG-1437, regarding the renewal of operating licenses DPR-71 and DPR-62 for an additional 20 years of operation at Brunswick Steam Electric Plant, Units 1 and 2 (BSEP), respectively. BSEP is located in Brunswick County in southeastern North Carolina, near the mouth of the Cape Fear River. Possible alternatives to the proposed action (license renewal) include no action and reasonable alternative energy sources.

The draft Supplement to the GEIS is publicly available in the NRC Public Document Room (PDR) located at One White Flint North, 11555 Rockville Pike (first floor), Rockville, Maryland 20852 or from the Publicly Available Records (PARS) component of NRC's Agencywide Documents Access and Management System (ADAMS). ADAMS is accessible from the Public Electronic Reading Room on the NRC's Web site at http://www.nrc.gov/reading-rm/adams.html. The Accession number for draft Supplement 25 to the GEIS is ML052380154. Persons who do not have access to ADAMS, or who encounter problems in accessing the documents located in ADAMS, should contact the PDR reference staff at 1-800-397-4209, 301-415-4737, or by e-mail to pdr@nrc.gov. In addition, the William Madison Randall Library, located at 601 S. College Rd., Wilmington, North Carolina 28403 has agreed to make the draft plant-specific supplement to the GEIS available for public inspection.

Interested parties may submit comments on the draft supplement to the GEIS for consideration by the NRC staff. To be certain of consideration, comments on the draft supplement to the GEIS and the proposed action must be received by December 2, 2005. Comments received after the due date will be considered if it is practical to do so, but the NRC staff is able to assure consideration only for comments received on or before this date. Written comments on the draft supplement to the GEIS should be sent to: Chief, Rules and Directives Branch, Division of Administrative Services, Office of Administration, Mailstop T-6D59, U.S. Nuclear Regulatory Commission, Washington, DC 20555-0001.

Comments may be hand-delivered to the NRC at 11545 Rockville Pike, Room T-6D59, Rockville, Maryland, between 7:30 a.m. and 4:15 p.m. on Federal workdays. Electronic comments may be submitted to the NRC by e-mail at BrunswickEIS@nrc.gov. All comments received by the Commission, including those made by Federal, State, and local agencies, Native American Tribes, or other interested persons, will be made available electronically at the Commission's PDR in Rockville, Maryland, and in ADAMS.

The NRC staff will hold two public meetings to present an overview of the draft plant-specific supplement to the GEIS and to accept public comments on the document. The public meetings will be held on October 18, 2005, at the Southport City Hall, 201 E. Moore Street, Southport, North Carolina 28461. The first meeting will convene at 1:30 p.m. and will continue until 4:30 p.m., as necessary. The second meeting will convene at 7 p.m. and will continue until 10:00 p.m., as necessary. Both meetings will be transcribed and will include: (1) A presentation of the contents of the draft plant-specific supplement to the GEIS, and (2) the opportunity for interested government agencies, organizations, and individuals to provide comments on the draft report. Additionally, the NRC staff will host informal discussions one hour before the start of each meeting at the Southport City Hall. No comments on the draft supplement to the GEIS will be accepted during the informal discussions. To be considered, comments must be provided either at the transcribed public meetings or in writing, as discussed below. Persons may register to attend or present oral comments at the meetings by contacting Mr. Richard L. Emch, Jr., by telephone at 1-800-368-5642, extension 1590, or by e-mail at BrunswickEIS@nrc.gov no later than October 11, 2005. Members of the public may also register to speak at the meeting within 15 minutes of the start of each session. Individual oral comments may be limited by the time available, depending on the number of persons who register. Members of the public who have not registered may also have an opportunity to speak, if time permits. The meeting is on the second floor of the building and there is no elevator. Therefore, the meeting room is not handicap accessible. If special equipment or accommodations are needed to attend or present information at the public meeting, Mr. Emch will need to be contacted no later than October 11, 2005, so that the NRC staff can determine whether the request can be accommodated.

FOR FURTHER INFORMATION CONTACT: Mr. Richard L. Emch, Jr., License Renewal and Environmental Impacts Program, Division of Regulatory Improvement Programs, U.S. Nuclear Regulatory Commission, Washington, DC 20555-0001. Mr. Emch may be contacted at the aforementioned telephone number or e-mail address.

Dated at Rockville, Maryland, this 30th day of August, 2005.
For the Nuclear Regulatory Commission.
Pao-Tsin Kuo,
Program Director, License Renewal and Environmental Impacts Program, Division of Regulatory Improvement Programs, Office of Nuclear Reactor Regulation.

[FR Doc. E5-4853 Filed 9-6-05; 8:45 am]

BILLING CODE 7590-01-P